DEPARTMENT OF JUSTICE

Office of Juvenile Justice and Delinquency Prevention

[OJP (OJJDP)-1305]

Program Announcement for the Tribal Youth Field-Initiated Research and Evaluation Program

AGENCY: Office of Justice Programs, Office of Juvenile Justice and Delinquency Prevention, Justice.

ACTION: Notice of solicitation.

SUMMARY: The Office of Juvenile Justice and Delinquency Prevention (OJJDP) is requesting applications for the Tribal Youth Field-Initiated Research and Evaluation Program to conduct research and evaluation projects focusing on youth from federally recognized tribes in the areas of alcohol and substance abuse, child abuse or neglect, or indigenous approaches to juvenile justice. Research findings will inform prevention and intervention efforts with offenders, high-risk youth, or juvenile victims of crime.

DATES: Applications must be received by January 23, 2001.

ADDRESSES: All application packages should be mailed or delivered to the Office of Juvenile Justice and Delinquency Prevention, c/o Juvenile Justice Resource Center, 2277 Research Boulevard, Mail Stop 2K, Rockville, MD 20850; 301-519-5535. Faxed or e-mailed applications will not be accepted. Interested applicants can obtain the OJJDP Application Kit from the Juvenile Justice Clearinghouse at 800-638-8736. The Application kit is also available at OJJDP's Web site at www.ojjdp.ncjrs.org/grants/about.html#kit. (See “Format” in this program announcement for instructions on application standards.)

FOR FURTHER INFORMATION CONTACT: Phelan Wyrick, Research and Program Development Division, Office of Juvenile Justice and Delinquency Prevention, 202-353-9254. [This is not a toll-free number.]

SUPPLEMENTARY INFORMATION:

Purpose

The purpose of this program is to generate high-quality research and evaluation focusing on youth from federally recognized tribes ¹ that will inform prevention and intervention efforts with offenders, high-risk youth, or juvenile victims of crime. Research and evaluation will be supported in the specific areas of alcohol and substance abuse, child abuse or neglect, and indigenous approaches to juvenile justice. Further, OJJDP's Tribal Youth Field-Initiated Research and Evaluation Program is intended to support the development of innovative and culturally appropriate research methods and instruments for use with tribal youth.

¹ Federally recognized Indian tribes include Alaska Native tribal governments. Under current law (Fiscal Year 2000 Consolidated Appropriations Act), the term “Indian tribes,” “tribal,” or “tribe(s)” means: “any Indian tribe, band, nation or other organized group or community, including Alaska Native village or regional or village corporation as defined in or established pursuant to the Alaska Native Claims Settlement Act * * * , which is recognized as eligible for the special programs and services provided by the United States to Indians because of their status as Indians.”

Authority

The Fiscal Year 2000 Consolidated Appropriations Act, November 17, 1999 (Pub. L. 106-113), authorized the Tribal Youth Program (TYP), providing $12.5 million to OJJDP to support and enhance tribal comprehensive delinquency prevention and control activities and for tribal juvenile justice system improvement. Ten percent of the funds appropriated for TYP is set aside to support program-related research, evaluation, and statistics. Of that total, $500,000 is being made available for field-initiated research and evaluation.

Background

TYP funds support a joint U.S. Department of Justice (DOJ) and U.S. Department of the Interior (DOI) Indian Country Law Enforcement Initiative. The purpose of the Initiative is to address the compelling need to improve the administration of tribal criminal and juvenile justice. OJJDP has been charged with sponsoring juvenile justice research, evaluation, and statistics in this effort.

In general, OJJDP funds research activities that derive from express congressional direction or address specified statutory priority areas. However, it is clear that many creative and important research ideas deserving support originate outside the Federal Government. The Tribal Youth Field-Initiated Research and Evaluation Program allows OJJDP to provide flexible funding for innovative and rigorous research that supports TYP and the Indian Country Law Enforcement Initiative.

At the beginning of the 21st century, the tribal population faces myriad challenges. Roughly 30 percent of all tribal members and more than 50 percent of those on reservations live below the poverty level (U.S. Census Bureau, 1993). The median age of American Indians, Eskimos, and Aleuts is estimated to be under 27 years, compared with the median age for all races, estimated at about 35 years (U.S. Census Bureau, 2000). Yet tribal youth have few opportunities for social, educational, or vocational development. Findings from the Bureau of Justice Statistics (BJS) 1999 report American Indians and Crime highlight several critical issues for tribal youth:

• Rates of violent victimization in every age group are higher among American Indians ² than among all other races.

² The BJS report includes Alaska Natives and Aleuts under the term “American Indian.”

• In 1995, American Indians had the highest rate of abuse or neglect of children under age 15 of any racial or ethnic group, and they experienced the greatest increase in this rate between 1992 and 1995.

• American Indians under age 18 are arrested for alcohol-related violations at a rate twice the national average.

These findings only begin to express the difficulties faced by tribal youth and communities, yet they clearly demonstrate the need for effective prevention and intervention approaches with offenders, high-risk youth, and juvenile victims of crime. OJJDP encourages the pursuit of new avenues of inquiry and innovative approaches to the problem of tribal juvenile delinquency. Support for innovative programming for Indian tribes is a priority objective under OJJDP's Tribal Youth Program.

Goals

The goal of this field-initiated research and evaluation program is to foster original, rigorous, and scientific research focusing on tribal youth populations in one or more of the following areas: Alcohol and substance abuse, child abuse or neglect, or indigenous approaches to juvenile justice. Research under this program will have direct practical implications for improving juvenile justice policy and practice.

Objectives

• Conceptualize and investigate research questions dealing specifically with alcohol and substance abuse, child abuse or neglect, or indigenous approaches to juvenile justice for tribal youth.

• Develop data collection approaches that are both scientifically rigorous and culturally appropriate.

• Expand and validate hypotheses on juvenile delinquency as they relate to tribal youth.

• Develop knowledge that will inform new hypotheses, techniques, or approaches to improve tribal juvenile justice and delinquency prevention programming.

Program Strategy [L1]

All too frequently, studies addressing tribal juvenile justice and delinquency prevention reflect limited knowledge of local cultures and indigenous justice systems. To address this gap, the Office of Justice Programs has sought guidance from tribal practitioners and researchers around the country on such issues as tribal crime and justice research, Alaskan tribal justice policies and practices, youth gangs, and suicide among tribal youth. Research recommendations that emerged from these consultations include the following: (1) Investigators should make greater efforts to involve indigenous people in the design and implementation of their research, (2) research findings should have clear practical implications for the community in which the study was conducted and for tribal communities in general, and (3) methods of inquiry should be based on and sensitive to local customs and values.

These recommendations apply to projects funded under the Tribal Youth Field-Initiated Research and Evaluation Program. Thus, applications submitted under this program should reflect efforts to involve tribal members in the design and implementation of any research or evaluation to be conducted. Projects should use culturally appropriate methods of inquiry and should offer practical implications with relevance to both the local community and broader audiences. OJJDP expects to use the results of these projects to provide empirically based guidance regarding tribal juvenile justice and delinquency prevention policies and practices.

Tribal Support

Applicants must demonstrate that they will be able to conduct the proposed research or evaluation with appropriate tribal approval. While it is not necessary to have a tribal resolution in support of this application, such a resolution may be necessary before the project begins. Applications must include a memorandum of understanding (MOU) or letter of support from at least one tribal leader with authority related to the proposed research or program evaluation (for example, a tribal council member or a program administrator). The MOU(s) or letter(s) should be included in appendix C of the application.

Special Considerations for Program Evaluations

Funding available through this solicitation is intended to support research and program evaluation efforts only. Applications proposing program evaluations should not request funds for service delivery, program materials, facility costs, or any other programmatic expenses that are not directly related to the evaluation. Further, because of the time and difficulty involved in launching youth service programs, it is strongly recommended that evaluations address programs that are already in place and operational.

Products

Proposals should contain a description of all products that will originate from the project. At a minimum, each grantee will be required to produce a final report that provides an overview of the research project. This overview should contain the following: (1) The theory and hypotheses guiding the work, (2) a description of the research or evaluation methods, (3) a full accounting of research and evaluation results, (4) practical or policy implications of the results, and (5) recommendations for future study. Grantees should indicate in their final report how their work will contribute to defining and/or implementing best practices in the field of juvenile justice for the target population. This final report should be publishable as an OJJDP research report. Applicants are also strongly encouraged to consider submitting their results for publication in a refereed journal.

Applicants must also indicate their willingness to provide at least one additional report suitable for publication as an OJJDP Bulletin or Fact Sheet. This report generally consists of excerpts or a summary of the final report and should be completed within 60 days of the grant's closing date.

Eligibility Requirements

OJJDP invites applications from public and private agencies, organizations, institutions, federally recognized tribes, and individuals, or any combination of the above. Private, for-profit organizations must agree to waive any profit or fee. In the case of joint applications, one applicant must be clearly indicated as primary (for correspondence and award purposes) and the other(s) listed as coapplicant(s). OJJDP encourages collaborative relationships among researchers, practitioners, and tribal entities. Collaborative applications with programs currently receiving TYP funding are encouraged. If the research is of a collaborative nature, written assurances of participation from each of the collaborating entities should be provided. Similarly, when specific programs or agencies are the subject of an applicant's research or evaluation, the application should include letters of commitment or cooperation from the relevant program or agency. Applicants are encouraged to identify existing or potential funding partners for the proposed work and indicate whether the proposed project has been submitted to any other funding sources.

Selection Criteria

Applications will be evaluated and rated by a peer review panel according to the criteria outlined below. In addition, the extent to which the project narrative makes clear and logical connections among the components listed below will be considered in assessing a project's merits.

Problem(s) To Be Addressed (20 points)

The proposed research will be judged on its ability to contribute to knowledge and practice in the field of juvenile justice and delinquency prevention. Applicants must include in the project narrative a clear statement of the research questions to be addressed. Applicants should discuss how previous research supports and shapes these questions and should identify the relevance of these questions for the field of juvenile justice and for tribal youth.

Goals and Objectives (10 points)

The application must include project goals and objectives that are clearly stated and relevant to the field of juvenile justice. Goals should reflect the mission of the project and they should derive directly from the statement of problems to be addressed. Objectives should consist of clearly defined, realistic, and measurable tasks and outcomes that will enable the applicant to achieve the goals of the project. Objectives should be framed to answer the proposed research questions.

Project Design (40 points)

The application should include a detailed description of the proposed project design and research or evaluation methods. Design elements should follow directly from the project's goals and objectives. The data to be collected and/or analyzed should clearly support the project's goals and objectives. Any instruments or data to be used should be identified and discussed with regard to validity and cultural sensitivity to the target population.

The application must include a timeline that indicates when specific tasks will be initiated and completed. The timeline should be referenced as appropriate in the narrative but should be placed in appendix A of the application.

Program evaluation applications should include enough descriptive program information in this section to make the evaluation design comprehensible. However, more detailed program information may be necessary to assess the quality of the application. This should be included as necessary in appendix D.

Management and Organizational Capability (20 points)

Applicants must demonstrate that they have experience or ability related to the type of research or evaluation being proposed. This includes knowledge of juvenile justice issues specific to tribal youth and evidence of the applicant's ability to work collaboratively with tribal juvenile justice system practitioners, service providers, or tribal members. This section must include the names of responsible individuals and key consultants, their time commitments, and their major tasks. In particular, applicants must ensure that the tasks delineated in the project timeline (see “Project Design” above) are adequately staffed. Résumés for key staff members should be included in appendix B.

Applicants must demonstrate organizational capacity and the existence of a management structure that will support the achievement of the project's goals and objectives in an efficient and cost-effective manner. Applicants should include a description of any similar projects undertaken previously. Memorandums of cooperation or appropriate letters of support from tribal leaders must be included in appendix C.

Budget (10 points)

Applicants must provide a proposed budget that is complete, detailed, reasonable, allowable, and cost-effective in relation to the activities to be undertaken. All budgeted costs should be directly related to the achievement of project goals and objectives. A brief budget narrative should be included in this section. As stated above, the budget should not include support for service delivery or any other programmatic expenses that are unrelated to research or evaluation.

Format

Applications must include a program narrative of no more than 30 pages. The page limit does not include the budget narrative, appendixes, application forms, or assurances. At the end of the program narrative, applicants must indicate the author(s) responsible for each of the narrative sections. Appendix A should contain the project's timeline with dates for initiation and completion of critical project tasks. Appendix B should contain the résumés for the principal investigator and key staff members. Appendix C should include all necessary letters of cooperation or support. Appendix D should include any additional program descriptions necessary to assess the quality of proposed program evaluation projects.

The narrative portion of the application must be submitted on 8½-by 11-inch paper using a standard 12-point font. The application should be double spaced and printed on one side of the paper only. The narrative should be preceded by an abstract with a maximum length of 300 words.

These requirements are necessary to maintain a fair and uniform set of standards among all applicants. If the application fails to conform to these standards, it will not be eligible for consideration.

Award Period

This program will be funded for a single budget and project period not to exceed 2 years.

Award Amount

Up to $500,000 is available for this program of field-initiated research and evaluation. Individual grant amounts, which will be subject to negotiation, may range from $100,000 to $200,000 per project.

Confidentiality and Human Subjects

U.S. Department of Justice regulations require that projects involving research or statistics must maintain the confidentiality of information identifiable to a private person and that human research subjects must be protected from unreasonable risks and properly informed of the potential harms and benefits from their participation in research. Applicants must comply with the confidentiality requirements of 42 U.S.C. 3789g and 28 CFR part 22 by submitting a Privacy Certificate in accordance with 28 CFR 22.23 as part of the application package. (See appendix B, “Privacy Certificate Guidelines and Statement,” in the OJJDP Application Kit.)

If the project involves research using human subjects, the applicant must comply with Department of Justice regulations at 28 CFR part 46. This part generally requires that an Institutional Review Board (IRB) review and approve such projects unless the project is determined to be exempt from the regulatory requirements. IRB review is not required prior to submission of the application. However, if an award is made and the project involves research using human subjects, OJJDP will place a special condition on the award requiring that the project be approved by an appropriate IRB before Federal funds can be expended on activities involving human research subjects. Applicants should include plans for IRB review, where applicable, in the project timeline submitted with the proposal.

As sovereign nations, Indian tribes may have specific requirements for confidentiality and approval of research and evaluation projects. Tribal policies and procedures for reviewing and approving research apply to this program and must be met before Federal funds can be expended on activities involving human research subjects. Tribal review and approval should also be considered in the project timeline submitted with the proposal.

Catalog of Federal Domestic Assistance (CFDA) Number

The CFDA number, required on Standard Form 424, “Application for Federal Assistance,” is 16.731. Standard Form 424 is included in the OJJDP Application Kit, which can be obtained by contacting the Juvenile Justice Clearinghouse at 800-638-8736 or sending an e-mail request to puborder@ncjrs.org. The Application Kit is also available online at www.ojjdp.ncjrs.org/grants/about.html#kit.

Coordination of Federal Efforts

To encourage better coordination among Federal agencies in addressing State and local needs, the U.S. Department of Justice is requesting applicants to provide information on the following: (1) Active Federal grant awards supporting this project or related efforts, including other awards from the Department of Justice; (2) any pending applications for Federal funds for this or related efforts; and (3) plans for coordinating any funds described in items (1) and (2) with the funding requested in this application. For each Federal award, applicants must include the program or project title, the Federal granting agency, the amount of the award, and a brief description of its purpose.

The term “related efforts” is defined for these purposes as one of the following:

• Efforts for the same purpose (i.e., the proposed project would supplement, expand, complement, or continue activities funded with other Federal grants).

• Another phase or component of the same program or project (e.g., to implement a planning effort funded by other Federal monies or to provide a substance abuse treatment or educational component within an existing juvenile justice project).

• Services of some kind (e.g., technical assistance, research, or evaluation) to the program or project described in the application.

Delivery Instructions

All application packages should be mailed or delivered to the Office of Juvenile Justice and Delinquency Prevention, c/o Juvenile Justice Resource Center, 2277 Research Boulevard, Mail Stop 2K, Rockville, MD 20850; 301-519-5535.

Note: In the lower left-hand corner of the envelope, the applicant must clearly write “Tribal Youth Field-Initiated Research and Evaluation Program.”

Due Date

Applicants are responsible for ensuring that the original and five copies of the application package are received by 5 p.m. ET on January 23, 2001.

Contact

For further information, contact Phelan Wyrick, Program Manager, Research and Program Development Division, Office of Juvenile Justice and Delinquency Prevention, at 202-353-9254. Alternatively, e-mail inquiries can be sent to wyrickp@ojp.usdoj.gov.

References

Bureau of Justice Statistics. 1999. American Indians and Crime. Washington, DC: U.S. Department of Justice, Office of Justice Programs, Bureau of Justice Statistics.

Dated: October 31, 2000.
John J. Wilson,
Acting Administrator, Office of Juvenile Justice and Delinquency Prevention.

[FR Doc. 00-28763 Filed 11-8-00; 8:45 am]

BILLING CODE 4410-18-P